DEPARTMENT OF DEFENSE

Office of the Secretary

Membership of the Office of the Secretary of Defense Performance Review Board

AGENCY: Department of Defense.

ACTION: Notice.

This notice announces the appointment of the members of the Performance Review Board (PRB) of the Office of the Secretary of Defense, the Joint staff, the U.S. Mission to the North Atlantic Treaty Organization, the Defense Advance Research Projects Agency, the Defense Commissary Agency, the Defense Security Service, the Defense Security Assistance Agency, the Ballistic Missile Defense Organization, the Defense Field Activities and the U.S. Court of Appeals of the Armed Forces. The publication of PRB membership is required by 5 U.S.C. 4314(c)(4).

The Performance Review Board (PRB) provides fair and impartial review of Senior Executive Service performance appraisals and makes recommendations regarding performance ratings and performance awards to the Secretary of Defense.

EFFECTIVE DATE: July 1, 2001.

FOR FURTHER INFORMATION CONTACT: Sandra Burrell, Executive and Political Personnel Division, Directorate for Personnel and Security, Washington Headquarter Services, Office of the Secretary of Defense, Department of Defense, The Pentagon, (703) 693-8347.

SUPPLEMENTARY INFORMATION: In accordance with 5 U.S.C. 4314(c)(4), the following executives are appointed in the Office of the Secretary of Defense PRB: specific PRB panel assignments will be made from this group. Executives listed will serve a one-year renewable term, effective July 1, 2001.

Office of the Secretary of Defense

Chairperson: Cheryl J. Roby

Ralph W. Alewine III

Timothy Arnold

Allen W. Beckett

Diana L. Blundell

Thomas Brunk

Jennifer Buck

Carol F. Covey

Paul Dempsey

Jim Dominy

Bob Dorosz

Keith L. Englander

Jeanne Farmer

Al Gallant

John Gehrig

Paul Koffsky

Paris Genalis

Anthony R. Grieco

Andy Hoehm

Judith Hughes

Michael Ioffredo

Bryan C. Jack

Clarence C. Juhl

Michael Kilpatrick

Paul S. Koffsky

Paul Kozemchak

John R. Landon

Deidre A. Lee

J. Allen Liotta

George B. Lotz II

William I. Lowry

Henry McIntyre

John McGowan

David L. McNicol

Patrick Meehan

Timothy Morgan

Ronald Mutzelburg

Robert A. Nemetz

Ralph Newton

James O' Bryon

James Reardon

Ann Reese

Ronald G. Richards

Alina L. Romanowski

Vincent Roske

Edward Ross

Patricia Sanders

Kenneth C. Scheflen

Harry Schulte

Susan Shekmar

Henry R. Sodano

Robert Taylor

Gerald Thomas

Mary Tompkey

Alfred Volkman

Dated: July 19, 2001.
L.M. Bynum,
Alternate OSD Federal Register Liaison Officer, Department of Defense.

[FR Doc. 01-18602 Filed 7-25-01; 8:45 am]

BILLING CODE 5001-08-M